FEDERAL COMMUNICATIONS COMMISSION

47 CFR Part 73

[MB Docket No. 23-244; RM-11955; DA 23-937; FR ID 178083]

Television Broadcasting Services Knoxville, Tennessee

AGENCY: Federal Communications Commission.

ACTION: Final rule.

SUMMARY: In this document, the Federal Communications Commission's Media Bureau, Video Division (Bureau) issued a issued a notice of proposed rulemaking in response to a Petition for Rulemaking filed by Tennessee TV, LLC (Petitioner), the licensee of television station WKNX-TV (WKNX-TV or Station), channel 7, Knoxville, Tennessee (Knoxville). The Petitioner has requested the substitution of UHF channel 21 for VHF channel 7 in the Table of TV Allotments. For the reasons set forth in the Report and Order referenced below, the Bureau amends FCC regulations to substitute channel 21 for channel 7 at Knoxville.

DATES: Effective October 17, 2023.

FOR FURTHER INFORMATION CONTACT: Joyce Bernstein, Media Bureau, at (202) 418-1647 or Joyce.Bernstein@fcc.gov.

SUPPLEMENTARY INFORMATION: The proposed rule was published at 88 FR 48784 on July 28, 2023. The Petitioner filed comments in support of the petition reaffirming its commitment to apply for channel 21. No other comments were filed.

The Bureau believes the public interest would be served by substituting channel 21 for channel 7 at Knoxville, Tennessee. The Commission has recognized that VHF channels pose challenges for their use in providing digital television service, including propagation characteristics that allow undesired signals and noise to be receivable at relatively far distances and large variability in the performance of indoor antennas available to viewers, with most antennas performing very poorly on high VHF channels. In its Supplement, the Petitioner provided a technical analysis showing that while 50,322 persons located along the eastern, southern, and western fringes of the Station's authorized channel 7 NLSC would not be within the proposed channel 21 noise-limited service contour, the entire loss area was within the NLSC of at least five other full power or Class A television stations, including four other full power television stations licensed to Knoxville or a community in the Knoxville Designated Market Area. Although the Petitioner's proposal would result in a number of persons no longer being within WKNX-TV's NLSC when the station moves to channel 21, all of those persons will continue to be well served by at least five other full power or Class A stations, and we find that the overall benefits of the proposed channel change by resolving reception issues outweigh any possible harm to the public interest. This is a synopsis of the Commission's Report and Order, MB Docket No. 23-244; RM-11955; DA 23-937, adopted October 6, 2023, and released October 6, 2023. The full text of this document is available for download at https://www.fcc.gov/edocs. To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of this Report and Order in a report to be sent to Congress and the Government Accountability Office pursuant to the Congressional Review Act, see 5 U.S.C. 801(a)(1)(A).

List of Subjects in 47 CFR Part 73

Television.

Federal Communications Commission.
Thomas Horan,
Chief of Staff, Media Bureau.

Final Rule

For the reasons discussed in the preamble, the Federal Communications Commission amends 47 CFR part 73 as follows:

PART 73—RADIO BROADCAST SERVICE

1. The authority citation for part 73 continues to read as follows:

Authority: 47 U.S.C. 154, 155, 301, 303, 307, 309, 310, 334, 336, 339.

2. In § 73.622, in paragraph (j), amend the Table of TV Allotments, under Tennessee, by revising the entry for Knoxville to read as follows:

§ 73.622 Table of TV allotments.

* * * * *

(j) * * *

Community | Channel No.
* * * * *
Tennessee
* * * * *
Knoxville | 10, 15, 21, 26, * 29, 34
* * * * *

[FR Doc. 2023-22857 Filed 10-16-23; 8:45 am]

BILLING CODE 6712-01-P